DEPARTMENT OF ENERGY

Office of Fossil Energy

[FE Docket No. 03-15-NG, 03-14-NG, et al.]

H.Q. Energy Services (U.S.) Inc., PG&E Energy Trading-Gas Corporation, Cargill, Incorporated, Statoil Natural Gas LLC, Dartmouth Power Associates, Limited Partnership; Orders Granting Authority to Import and Export Natural Gas, Including Liquefied Natural Gas

AGENCY: Office of Fossil Energy, DOE.

ACTION: Notice of orders.

SUMMARY: The Office of Fossil Energy (FE) of the Department of Energy gives notice that during April 2003, it issued Orders granting authority to import and export natural gas, including liquefied natural gas. These Orders are summarized in the attached appendix and may be found on the FE Web site at http://www.fe.doe.gov (select gas regulation), or on the electronic bulletin board at (202) 586-7853. They are also available for inspection and copying in the Office of Natural Gas & Petroleum Import & Export Activities, Docket Room 3E-033, Forrestal Building, 1000 Independence Avenue, SW., Washington, DC 20585, (202) 586-9478. The Docket Room is open between the hours of 8 a.m. and 4:30 p.m., Monday through Friday, except Federal holidays.

Issued in Washington, DC on May 5th, 2003.
Clifford P. Tomaszewski,
Manager, Natural Gas Regulation, Office of Natural Gas & Petroleum Import & Export Activities, Office of Fossil Energy.

Appendix—Orders Granting Import/Export Authorizations
[DOE/FE Authority]
Order No. | Date issued | Importer/exporter FE Docket No. | Import volume | Export volume | Comments
1861 | 4-4-03 | H.Q. Energy Services (U.S.) Inc., 03-15-NG | 200 Bcf | 200 Bcf | Import and export natural gas from and to Canada and Mexico, beginning on May 1, 2003, and extending through April 30, 2005.
1862 | 4-4-03 | PG&E Energy Trading-Gas Corporation, 03-14-NG | 100 Bcf | 100 Bcf | Import and export natural gas from and to Canada, beginning on July 1, 2003, and extending through June 31, 2005.
1863 | 4-15-03 | Cargill, Incorporation 03-17-NG | 1,500 Bcf | 500 Bcf | Import up to a combined total of natural gas from Canada and Mexico, and to export up to a combined total of natural gas to Canada and Mexico, beginning on April 15, 2003, and extending through April 14, 2005.
1864 | 4-21-03 | Statoil Natural Gas LLC, 03-16-LNG | 190 Bcf |  | Import liquefied natural gas from various international sources, beginning on June 1, 2003, and extending through May 31, 2005.
1865 | 4-28-03 | Dartmouth Power Associates Limited Partnership 03-18-NG | 11.68 Bcf |  | Import natural gas from Canada, beginning on May 7, 2003, and extending through May 6, 2005.

[FR Doc. 03-12161 Filed 5-14-03; 8:45 am]

BILLING CODE 6450-01-P